DEPARTMENT OF HOUSING AND URBAN DEVELOPMENT

[Docket No. FR-4950-FA-11]

Announcement of Funding Awards for Fiscal Year 2005 Hispanic-Serving Institutions Assisting Communities Program

AGENCY: Office of the Assistant Secretary for Policy Development and Research, HUD.

ACTION: Announcement of funding awards.

SUMMARY: In accordance with Section 102(a)(4)(C) of the Department of Housing and Urban Development Reform Act of 1989, this document notifies the public of funding awards for Fiscal Year 2005 Hispanic-Serving Institutions Assisting Communities Program (HSIAC). The purpose of this document is to announce the names, addresses and the amount awarded to the winners to be used to help Hispanic-Serving Institutions of Higher Education to expand their role and effectiveness in addressing community development needs in their localities, consistent with the purposes of Title I of the Housing and Community Development Act of 1974 as amended.

FOR FURTHER INFORMATION CONTACT: Susan Brunson, Office of University Partnerships, U.S. Department of Housing and Urban Development, Room 8106, 451 Seventh Street, SW., Washington, DC 20410-6000, telephone (202) 708-3061, ext. 3852. To provide service for persons who are hearing-or-speech-impaired, this number may be reached via TTY by Dialing the Federal Information Relay Service on (800) 877-8339 or (202) 708-1455. (Telephone numbers, other than “800” TTY numbers, are not toll free.)

SUPPLEMENTARY INFORMATION: The Hispanic-Serving Institutions Assisting Communities Program was approved by Congress under Section 107 of the Community Development Block Grant (CDBG) appropriations for the Fiscal Year 2005, and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HSIAC program provides funds for a wide range of CDBG-eligible activities including housing rehabilitation and financing, property demolition or acquisition, public facilities, economic development, business entrepreneurship, and fair housing programs.

The Catalog of Federal Domestic Assistance number for this program is 14.514.

On March 21, 2005 (70 FR 13711), HUD published a Notice of Funding Availability (NOFA) announcing the availability of $6.64 million in Fiscal Year 2005 for the HSIAC Program. The Department reviewed, evaluated, and scored the applications received based on the criteria in the NOFA. As a result, HUD has funded the applications below and, in accordance with section 102(a)(4)(C) of the Department of Housing and Urban Development Reform Act of 1989 (103 Stat. 1987, 42 U.S.C. 3545), the Department is publishing details concerning the recipients of funding awards as follows (More information about the winners can be found at http://www.oup.org.):

List of Awardees for Grant Assistance Under the FY 2005 Hispanic-Serving Institutions Assisting Communities Program Funding Competition, by Institution, Address and Grant Amount

Region VI

1. Sul Ross State University, Mr. Gregory Schwab, Sul Ross State University, 400 North Harrison, PO Box C-119, Alpine, TX 79832. Grant: $599,999.

2. University of Texas at Brownsville and Texas Southmost College, Mr. Jim Holt, University of Texas at Brownsville and Texas Southmost College, 80 Fort Brown, WTCE, Brownsville, TX 78520. Grant: $600,000.

Region IX

3. West Hills Community College Coalinga, Ms. Patty Scroggins, West Hills College Coalinga, 9900 Cody Avenue, Coalinga, CA 93210. Grant: $600,000.

4. California State University-Stanislaus, Dr. Steven Filing, California State University-Stanislaus, 801 West Monte Vista Avenue, Turlock, CA 95382. Grant: $596,399.

5. California State University-Fullerton Foundation, Dr. Donald Castro, California State University-Fullerton Foundation, 2600 E. Nutwood Avenue, Suite 275, Fullerton, CA 92831. Grant: $599,525.

6. Foundation of California State University-Monterey Bay, Dr. Seth Pollack, Foundation of California State University-Monterey Bay, 100 Campus Center, Seaside, CA 93933. Grant: $599,912.

7. Southwestern College, Ms. Cynthia Nagura, Southwestern College, 900 Otay Lakes Road, Chula Vista, CA 91910. Grant: $600,000.

8. Los Angeles Mission College, Dr. Adriana Barrera, Los Angeles Mission College, 13356 Eldridge Avenue, Sylmar, CA 91342. Grant: $595,080.

9. The National Hispanic University, Dr. David Johnson, The National Hispanic University, 14271 Story Road, San Jose, CA 95127. Grant: $599,650.

10. Pima County Community College District, Ms. Imelda Cuyugan, Pima County Community College District, 4905C East Broadway Boulevard, Tucson, AZ 85709. Grant: $577,561.

Region X

11. Heritage University, Dr. Mary Alice Muellerleile, Heritage University, 3240 Fort Road, Toppenish, WA 98948. Grant: $600,000.

Dated: May 26, 2006.
Darlene F. Williams,
Assistant Secretary.

[FR Doc. E6-8534 Filed 6-1-06; 8:45 am]

BILLING CODE 4210-67-P